DEPARTMENT OF TRANSPORTATION

Coast Guard

33 CFR Part 117

[CGD01-01-182]

RIN 2115-AE47

Drawbridge Operation Regulations: Hutchinson River, Eastchester Creek, NY

AGENCY: Coast Guard, DOT.

ACTION: Temporary final rule; revision.

SUMMARY: The Coast Guard is revising the temporary final rule regulating the operation of the Pelham Parkway Bridge, mile 0.4, across the Hutchinson River in New York. The temporary rule, in effect from November 15, 2001 through May 12, 2002, requires the bridge to open on signal, after a one-hour advance notice is given, between 7 a.m. and 5 p.m., Monday through Friday. This revision provides that the draw need not open for vessel traffic from 6 a.m. to 7 p.m., on April 18, 19, 29, and 30, 2002. This action is necessary to facilitate necessary maintenance repairs at the bridge.

DATES: This temporary final rule is effective from November 15, 2001 through May 12, 2002.

ADDRESSES: Documents as indicated in this preamble are available for inspection or copying at the First Coast Guard District Office, 408 Atlantic Avenue, Boston, Massachusetts, 02110, 7 a.m. to 3 p.m., Monday through Friday, except Federal holidays. The telephone number is (617) 223-8364.

FOR FURTHER INFORMATION CONTACT: Mr. Joe Schmied, Project Officer, First Coast Guard District, at (212) 668-7165.

SUPPLEMENTARY INFORMATION:

Regulatory History

Pursuant to 5 U.S.C. 553, a notice of proposed rulemaking (NPRM) was not published for this regulation. Good cause exists for not publishing a Notice of proposed rulemaking in the Federal Register.

On October 17, 2001, we published a temporary final rule governing the operation of the Pelham Parkway Bridge (66 FR 52684). The temporary final rule required a one-hour advance notice for any bridge opening from November 15, 2001 through May 12, 2002. In the course of the ongoing rehabilitation of the bridge it was determined that certain work at the bridge required that it remain in the closed position for two two-day periods. After contacting all known waterway users to coordinate the closure dates, we decided to revise the temporary final rule to provide that the bridge remain closed on April 18, 19, 29, and 30, 2002.

Any delay encountered in this regulation's effective date would be unnecessary and contrary to the public interest since immediate action is needed to facilitate necessary electrical and mechanical maintenance at the bridge.

Background and Purpose

The Pelham Parkway Bridge has a vertical clearance of 13 feet at mean high water and 20 feet at mean low water in the closed position. The current operating regulations for the bridge, listed at 33 CFR 117.793, require the bridge to open on signal at all times.

The bridge owner, New York City Department of Transportation (NYCDOT), requested an additional temporary change to the operating regulations governing the Pelham Parkway Bridge to facilitate several bridge closures previously not anticipated in the original scope of work. As a result of the above information, we are revising the temporary final rule (66 FR 52684) we published on October 17, 2001, to add the additional closure dates to the rulemaking.

The additional work at the bridge will require the bridge to remain in the closed position on April 18, 19, 29, and 30, 2002.

The Coast Guard believes this additional temporary change to the drawbridge operation regulations is reasonable and will meet the present needs of navigation based upon coordination with the operators that use this waterway.

Regulatory Evaluation

This temporary final rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040; Feb. 26, 1979). The Coast Guard expects the economic impact of this temporary final rule to be so minimal that a full Regulatory Evaluation under paragraph 10e of the regulatory policies and procedures of DOT is unnecessary. This conclusion is based on the fact that the additional bridge closures were coordinated with the mariners that normally use this waterway.

Small Entities

Under the Regulatory Flexibility Act (5 U.S.C. 601-612) we considered whether this temporary final rule would have a significant economic impact on a substantial number of small entities. “Small entities” comprises small businesses, not-for-profit organizations that are independently owned and operated and are not dominant in their fields, and governmental jurisdictions with populations less than 50,000.

The Coast Guard certifies under 5 U.S.C. 605(b) that this rule will not have a significant economic impact on a substantial number of small entities. This conclusion is based on the fact that the additional bridge closures were coordinated with the mariners that normally use this waterway.

Collection of Information

This temporary final rule does not provide for a collection of information under the Paperwork Reduction Act of 1995 (44 U.S.C. 3501 et seq.).

Federalism

The Coast Guard has analyzed this temporary final rule in accordance with the principles and criteria contained in Executive Order 12612 and has determined that this temporary final rule does not have sufficient federalism implications to warrant the preparation of a Federalism Assessment.

Environment

The Coast Guard considered the environmental impact of this temporary final rule and concluded that, under Section 2.B.2., Figure 2-1, paragraph (32)(e), of Commandant Instruction M16475.1C, this temporary final rule is categorically excluded from further environmental documentation because promulgation of changes to drawbridge regulations have been found not to have a significant effect on the environment. A written “Categorical Exclusion Determination” is not required for this temporary final rule.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From November 15, 2001, through May 12, 2002, § 117.793(d) is revised to read as follows:

§ 117.793 Hutchinson River Eastchester Creek

* * * * *

(d) The Pelham Parkway Bridge, mile 0.4, shall open on signal; except that, from 7 a.m. to 5 p.m., Monday through Friday, the draw shall open on signal after at least a one-hour advance notice is given by calling the number posted at the bridge; except that, from 6 a.m. to 7 p.m., on April 18, 19, 29, and 30, 2002, the draw need not open for vessel traffic.

Dated: April 11, 2002.
G.N. Naccara,
Rear Admiral, Coast Guard Commander, First Coast Guard District.

[FR Doc. 02-10035 Filed 4-24-02; 8:45 am]

BILLING CODE 4910-15-M